DEPARTMENT OF COMMERCE

National Oceanic and Atmospheric Administration

[I.D. 011403F]

Marine Mammals; File No. 9981678

AGENCY: National Marine Fisheries Sevice (NMFS), National Oceanic and Atmospheric Administration (NOAA), Commerce.

ACTION: Issuance of permit.

SUMMARY: Notice is hereby given that Gregory D. Bossart, V.M.D., Ph.D., Harbor Branch Oceanographic Institution, Inc., 5600 US 1 North, Ft. Pierce, Florida 34946 (Principal Investigator: Dr. Gregory D. Bossart) has been issued a permit (Permit No. 998-1678-00) to take Atlantic bottlenose dolphins (Tursiops truncatus) for purposes of scientific research.

ADDRESSES: The permit and related documents are available for review upon written request or by appointment in the following office(s):

Permits, Conservation and Education Division, Office of Protected Resources, NMFS, 1315 East-West Highway, Room 13705, Silver Spring, MD 20910; phone (301) 713-2289; fax (301) 713-0376; and

Southeast Region, NMFS, Protected Resources Division, 9721 Executive Center Drive North, St. Petersburg, FL 33702-2432; phone (813) 570-5312; fax (813) 570-5517.

FOR FURTHER INFORMATION CONTACT: Trevor Spradlin or Lynne Barre, (301) 713-2289.

SUPPLEMENTARY INFORMATION: On July 25, 2002, notice was published in the Federal Register (67 FR 48614) that a request for a scientific research permit to take bottlenose dolphins had been submitted by the above-named individual. The requested permit has been issued under the authority of the Marine Mammal Protection Act of 1972, as amended (16 U.S.C. 1361 et seq.), and the Regulations Governing the Taking and Importing of Marine Mammals (50 CFR part 216).

The permit authorizes a maximum of 400 individual dolphins to be captured, examined, sampled, marked, and released for health assessment studies in the Indian River Lagoon, Florida and the waters near Charleston, South Carolina (200 at each field site) over the 5-year period of the permit. Dolphins of all age and sex classes may be captured except female-calf pairs containing calves presumed to be less than one year of age. Some individual dolphins may be harassed more than once per day but not more than three times per day. In addition, some individual dolphins may be captured more than once during the 5-year period, but not more than three times in any given year.

Dated: January 17, 2003.
Eugene T. Nitta,
Acting Chief, Permits, Conservation and Education Division, Office of Protected Resources, National Marine Fisheries Service.

[FR Doc. 03-2029 Filed 1-28-03; 8:45 am]

BILLING CODE 3510-22-S